FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 9, 2017.

A. Federal Reserve Bank of Atlanta (Chapelle Davis, Assistant Vice President) 1000 Peachtree Street NE., Atlanta, Georgia 30309. Comments can also be sent electronically to Applications.Comments@atl.frb.org:

1. James A. Hammack, Ann S. Hammack, Margaret A. Hammack 1998 Trust, Anne S. Hammack, Trustee, James A. Hammack, III Trust, Anne S. Hammack, Trustee; Margaret Hammack, Anne S. Hammack, guardian, Anne Singletary Hammack item IIIA 2 TR, all of Dalton, Georgia, and James A. Hammack, III, Atlanta, Georgia; to retain voting shares of One South Financial, Inc., Blakely, Georgia, and its subsidiaries, Bank of Early, Blakely, Georgia, and One South Bank, Chipley, Florida.

B. Federal Reserve Bank of Dallas (Robert L. Triplett III, Senior Vice President) 2200 North Pearl Street, Dallas, Texas 75201-2272:

1. Atticus Franklin Miller, individually, Reno, Texas, and as the Executor of the Frank H. Miller Estate; to acquire and retain voting shares of Cooper Lake Financial Corporation, Cooper, Texas, and thereby, indirectly own shares of The First National Bank in Cooper, Cooper, Texas.

Board of Governors of the Federal Reserve System, December 16, 2016.
Yao-Chin Chao,
Assistant Secretary of the Board.

[FR Doc. 2016-30754 Filed 12-20-16; 8:45 am]

BILLING CODE 6210-01-P